DEPARTMENT OF ENERGY

Federal Energy Regulatory Commission

[Docket No. RP96-389-064]

Columbia Gulf Transmission Company; Notice of Compliance Filing

August 21, 2002.

Take notice that on August 12, 2002, Columbia Gulf Transmission Company (Columbia Gulf) tendered for filing as part of its FERC Gas Tariff, Second Revised Volume No. 1, the following revised tariff sheet to become effective August 2, 2002:

Fourth Revised Sheet No. 316

Columbia Gulf states on June 28, 2002, it made a filing with the Federal Energy Regulatory Commission (“Commission”) seeking approval of a Rate Schedule FTS-1 negotiated rate agreement with Virginia Power Energy Marketing in Docket No. RP96-389-055. On August 2, 2002, the Commission issued an order on the filing, approving the service agreement effective November 1, 2002, and directing Columbia Gulf to file a tariff sheet identifying the agreement as a non-conforming agreement in compliance with Section 154.112(b) of the Commission's regulations. The instant filing is being made to comply with Section 154.112(b) and reference the non-conforming service agreement in its Volume No. 1 tariff.

Columbia Gulf states that copies of its filing are available for public inspection during regular business hours in a convenient form and place at Columbia Gulf's offices at 12801 Fair Lakes Parkway, Fairfax, VA; 2603 Augusta, Suite 125, Houston, TX; and 10 G Street, NE., Suite 580, Washington, DC.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. See, 18 CFR 385.2001(a)(1)(iii) and the instructions on the Commission's Web site under the “e-Filing” link. The Commission strongly encourages electronic filings.

Linwood A. Watson, Jr.,
Deputy Secretary.

[FR Doc. 02-21852 Filed 8-27-02; 8:45 am]

BILLING CODE 6717-01-P